DEPARTMENT OF THE INTERIOR

Bureau of Land Management

[LLCAN00000.L18200000.ZX0000; 9-00160-ILM]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, July 30 and 31, 2009, at the Bureau of Land Management Arcata Field Office, 1695 Heindon Rd., Arcata, California. On July 30, the council convenes at 10 a.m. and departs immediately for a tour of public lands managed by the BLM Arcata Field Office. On July 31, the meeting begins at 8 a.m. in the Arcata Field Office Conference Room. Time for public comment is set for 11 a.m.

FOR FURTHER INFORMATION CONTACT: Lynda Roush, BLM Arcata Field Office Manager, (707) 825-2309, or BLM Public Affairs Officer Joseph J. Fontana, (530) 252-5332.

SUPPLEMENTARY INFORMATION: The 12-member council advises the Secretary of the Interior, through the BLM, on a variety of planning and management issues associated with public land management in Northwest California. At this meeting agenda topics include access alternatives for the South Cow Mountain Recreation Area near Ukiah, BLM image topics and updates from the BLM Arcata, Redding and Ukiah field offices. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: April 22, 2009.
Joseph J. Fontana,
Public Affairs Officer.

[FR Doc. E9-9952 Filed 4-29-09; 8:45 am]

BILLING CODE 4310-40-P